DEPARTMENT OF TRANSPORTATION

Federal Aviation Administration

14 CFR Part 71

[Docket No. FAA-2017-0994; Airspace Docket No. 17-ASO-21]

RIN 2120-AA66

Amendment of Class D Airspace and Class E Airspace; Greenwood, MS

AGENCY: Federal Aviation Administration (FAA), DOT.

ACTION: Final rule.

SUMMARY: This action amends Class D airspace, and Class E surface area airspace at Greenwood-Leflore Airport, Greenwood, MS, by making an editorial change to the legal descriptions replacing “Airport-Facility Directory” with the term “Chart Supplement”. This action also removes the part-time Notice to Airmen (NOTAM) language from Class E airspace designated as an extension to Class D airspace. Controlled airspace is necessary for the safety and management of instrument flight rules (IFR) operations at the airport. This action also updates the geographic coordinates of the airport in the Class designations noted in this proposal to coincide with the FAA's aeronautical database. Also, this action corrects the geographic coordinates published in the proposal incorrectly.

DATES: Effective 0901 UTC, July 19, 2018. The Director of the Federal Register approves this incorporation by reference action under title 1, Code of Federal Regulations, part 51, subject to the annual revision of FAA Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: John Fornito, Operations Support Group, Eastern Service Center, Federal Aviation Administration, 1701 Columbia Ave, College Park, GA 30337; telephone (404) 305-6364.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class D and Class E airspace at Greenwood-Leflore Airport, Greenwood, MS, to support IFR operations under standard instrument approach procedures at the airport.

History

The FAA published a notice of proposed rulemaking in the Federal Register (83 FR 5966, February 12, 2018) for Docket No. FAA-2017-0994 to amend Class D airspace, Class E surface airspace, Class E airspace designated as an extension to a Class D surface area, and Class E airspace extending upward from 700 feet or more above the surface at Greenwood-Leflore Airport, Greenwood, MS.

Interested parties were invited to participate in this rulemaking effort by submitting written comments on the proposal to the FAA. No comments were received.

Class D and E airspace designations are published in paragraph 5000, 6002, 6004, and 6005, respectively, of FAA Order 7400.11B dated August 3, 2017, and effective September 15, 2017, which is incorporated by reference in 14 CFR part 71.1. The Class D and E airspace designations listed in this document will be published subsequently in the Order.

Availability and Summary of Documents for Incorporation by Reference

This document amends FAA Order 7400.11B, Airspace Designations and Reporting Points, dated August 3, 2017, and effective September 15, 2016. FAA Order 7400.11B is publicly available as listed in the ADDRESSES section of this document. FAA Order 7400.11B lists Class A, B, C, D, and E airspace areas, air traffic service routes, and reporting points.

The Rule

This amendment to Title 14 Code of Federal Regulations (14 CFR) part 71 amends Class D airspace, and Class E surface area airspace at Greenwood-Leflore Airport, Greenwood, MS, by making an editorial change to the legal descriptions replacing “Airport-Facility Directory” with the term “Chart Supplement”.

Also, this action removes the part-time NOTAM language from the Class E airspace designated as an extension to a Class D surface area.

Additionally, the geographic coordinates of the airport, in the above airspace areas, and the Class E airspace area extending upward from 700 feet above the surface, are adjusted to coincide with the FAA's aeronautical database.

Regulatory Notices and Analyses

The FAA has determined that this regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of Federal Aviation Administration Order 7400.11B, Airspace Designations and Reporting Points, dated August 3, 2017, effective September 15, 2017, is amended as follows:

Paragraph 5000 Class D Airspace.

* * * * *

ASO MS D Greenwood, MS [Amended]

Greenwood-Leflore Airport, MS

(Lat. 33°29′36″ N, long. 90°05′12″ W)

That airspace extending upward from the surface to and including 2,700 feet MSL within a 4.4-mile radius of Greenwood-Leflore Airport. This Class D airspace area is effective during the specific dates and times established in advance by a Notice to Airmen. The effective dates and times will thereafter be continuously published in the Chart Supplement.

Paragraph 6002 Class E Surface Area Airspace.

* * * * *

ASO MS E2 Greenwood, MS [Amended]

Greenwood-Leflore Airport, MS

(Lat. 33°29′36″ N, long. 90°05′12″ W)

Within a 4.4-mile radius of Greenwood-Leflore Airport. This Class E airspace area is effective during the specific dates and times established in advance by a Notice to Airmen. The effective date and time will thereafter be continuously published in the Chart Supplement.

Paragraph 6004 Class E Airspace Designated as an Extension to a Class D Surface Area.

* * * * *

ASO MS E4 Greenwood, MS [Amended]

Greenwood-Leflore Airport, MS

(Lat. 33°29′36″ N, long. 90°05′12″ W)

Sidon VORTAC

(Lat. 33°27′50″ N, long. 90°16′38″ W)

That airspace extending upward from the surface within 1.4 miles each side of the Sidon VORTAC 079° radial, extending from the 4.4-miles radius of Greenwood-Leflore Airport to 4 miles east of the VORTAC.

Paragraph 6005 Class E Airspace Areas Extending Upward From 700 Feet or More Above the Surface of the Earth.

* * * * *

ASO MS E5 Greenwood, MS [Amended]

Greenwood-Leflore Airport, MS

(Lat. 33°29′36″ N, long. 90°05′12″ W)

Sidon VORTAC

(Lat. 33°27′50″ N, long. 90°16′38″ W)

That airspace extending upward from 700 feet above the surface within a 6.9-mile radius of That That airspace That airspace extending upward from 700 feet above the surface within a 6.9-mile radius of Greenwood-Leflore Airport and within 1.2 miles each side of the Sidon VORTAC 079° radial, extending from the 6.9-mile radius to 2 miles each side of the VORTAC.

Issued in College Park, Georgia, on May 8, 2018.
Debra L. Hogan,
Acting Manager, Operations Support Group, Eastern Service Center, Air Traffic Organization.

[FR Doc. 2018-10389 Filed 5-16-18; 8:45 am]

BILLING CODE 4910-13-P